INTERNATIONAL TRADE COMMISSION

[Investigation Nos. 701-TA-650-651 (Final)]

Phosphate Fertilizers From Morocco and Russia

Determinations

On the basis of the record ¹ developed in the subject investigations, the United States International Trade Commission (“Commission”) determines, pursuant to the Tariff Act of 1930 (“the Act”), that an industry in the United States is materially injured by reason of imports of phosphate fertilizers from Morocco and Russia, provided for in subheadings 3103.11.00, 3103.19.00, 3103.90.00, 3105.10.00, 3105.20.00, 3105.30.00, 3105.40.00, 3105.51.00, 3105.59.00, 3105.60.00, and 3105.90.00 of the Harmonized Tariff Schedule of the United States, that have been found by the U.S. Department of Commerce (“Commerce”) to be subsidized by the governments of Morocco and Russia.2 3

¹ The record is defined in § 207.2(f) of the Commission's Rules of Practice and Procedure (19 CFR 207.2(f)).

² 86 FR 9479 and 86 FR 9482 (February 16, 2021).

³ Commissioner Johanson dissenting.

Background

The Commission instituted these investigations effective June 26, 2020, following receipt of petitions filed with the Commission and Commerce by The Mosaic Company, Plymouth, Minnesota. The Commission scheduled the final phase of the investigations following notification of preliminary determinations by Commerce that imports of phosphate fertilizers from Morocco and Russia were being subsidized within the meaning of section 703(b) of the Act (19 U.S.C. 1671b(b)). Notice of the scheduling of the final phase of the Commission's investigations and of a public hearing to be held in connection therewith was given by posting copies of the notice in the Office of the Secretary, U.S. International Trade Commission, Washington, DC, and by publishing the notice in the Federal Register of December 8, 2020 (85 FR 79033). In light of the restrictions on access to the Commission building due to the COVID-19 pandemic, the Commission conducted its hearing through written testimony and video conference on February 9, 2021. All persons who requested the opportunity were permitted to participate.

The Commission made these determinations pursuant to § 705(b) of the Act (19 U.S.C. 1671d(b)). It completed and filed its determinations in these investigations on March 31, 2021. The views of the Commission are contained in USITC Publication 5172 (March 2021), entitled Phosphate Fertilizers from Morocco and Russia: Investigation Nos. 701-TA-650-651 (Final).

By order of the Commission.
Issued: March 31, 2021.
Lisa Barton,
Secretary to the Commission.

[FR Doc. 2021-06955 Filed 4-2-21; 8:45 am]

BILLING CODE 7020-02-P